DEPARTMENT OF HOUSING AND URBAN DEVELOPMENT

[Docket No. FR-4980-N-15]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this notice. Where property is described as for “off-site use only” recipients of the property will be required to relocate the building to their own site at their own expense. Homeless assistance providers interested in any such property should send a written expression of interest to HHS, addressed to Heather Ranson, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a notice showing it as either suitable/available or suitable/unavailable.

For properties listed as suitable/unavailable, the landholding agency has decided that the property cannot be declared excess or made available for use to assist the homeless, and the property will not be available.

Properties listed as unsuitable will not be made available for any other purpose for 20 days from the date of this notice. Homeless assistance providers interested in a review by HUD of the determination of unsuitability should call the toll free information line at 1-800-927-7588 for detailed instructions or write a letter to Mark Johnston at the address listed at the beginning of this notice. Included in the request for review should be the property address (including zip code), the date of publication in the Federal Register, the landholding agency, and the property number.

For more information regarding particular properties identified in this notice (i.e., acreage, floor plan, existing sanitary facilities, exact street address), providers should contact the appropriate landholding agencies at the following addresses: Energy: Mr. Andy Duran, Department of Energy, Office of Engineering & Construction Management, ME-90, 1000 Independence Ave, SW., Washington, DC 20585: (202) 586-4548; GSA: Mr. Brian K. Polly, Assistant Commissioner, General Services Administration, Office of Property Disposal, 18th and F Streets, NW., Washington, DC 20405; (202) 501-0084; Navy: Mr. Charles C. Cocks, Department of the Navy, Real Estate Policy Division, Naval Facilities Engineering Command, Washington Navy Yard, 1322 Patterson Ave., SE., Suite 1000, Washington, DC 20374-5065; (202) 685-9200 (these are not toll-free numbers).

Dated: April 7, 2005.
Mark R. Johnston,
Director, Office of Special Needs, Assistance Programs.

Title V, Federal Surplus Property Program Federal Register Report for 4/15/05

Suitable/Available Properties

Buildings (by State)

Massachusetts

Bldgs. 3263-3266

Westover RAFB

Outer Road

Chicopee Co: MA 01022-

Landholding Agency: Navy

Property Number: 77200520002

Status: Excess

Comment: 3952 sq. ft., military family housing, needs rehab, off-site use only

Bldgs. 3200 thru 3214

Westover RAFB

Cowan Ave/Goodwin St

Chicopee Co: MA

Landholding Agency: Navy

Property Number: 77200520003

Status: Excess

Comment: various sq .ft., needs rehab, most recent use—admin., off-site use only

Pennsylvania

SSA Building

7959 Bustleton Avenue

Philadelphia Co: PA

Landholding Agency: GSA

Property Number: 54200520001

Status: Surplus

Comment: 12,500 sq. ft., most recent use—office, to be vacated 10/15/2005

GSA Number: 4-G-PA-0799

South Dakota

Post Office/Courthouse

102 4th Avenue

Aberdeen Co: Brown SD 57401-4309

Landholding Agency: GSA

Property Number: 54200510019

Status: Excess

Comment: 32,162 sq. ft., presence of asbestos, most recent use—office, 42% currently occupied/to be vacated 2007

GSA Number: 7-G-SD-0527

Tennessee

Memphis Motor Pool

150 Overton Avenue

Memphis Co: Shelby TN 38150-2720

Landholding Agency: GSA

Property Number: 54200520004

Status: Excess

Comment: 3128 sq. ft., most recent use—office/lab/warehouse

GSA Number: 4-G-TN-0659

Land (by State)

Iowa

Coralville Lake Project

North Liberty Co: Johnson IA 52317-

Landholding Agency: GSA

Property Number: 54200510017

Status: Unutilized

Comment: 9.1 acres, subject to existing easements, most recent use—roadside park

GSA Number: 7-D-IA-0416E

Kentucky

10.99 acres

Caseyville Access Site

Smithland Locks & Dam

Caseyville Co: Union KY

Landholding Agency: GSA

Property Number: 54200510018

Status: Excess

Comment: Boat ramp, flowage easement, occasional flooding, most recent use—recreation

GSA Number: 4-D-KY-05687E

Portion Tract #619

Lakeview Drive

Littcarr Co: Knott KY 41822-

Landholding Agency: GSA

Property Number: 54200520003

Status: Excess

Comment: 3.74 acres, 1acre is flat/2.74 acres steep hillside

GSA Number: 4-D-KY-0619

Suitable/Unavailable Properties

Buildings (by State)

Hawaii

Bldg. 1145

Naval Air Station

Barbers Point Co: Honolulu HI 96707-

Landholding Agency: Navy

Property Number: 77200510026

Status: Unutilized

Comment: 11,440 sq. ft., presence of asbestos/lead paint, poor condition, most recent use—youth center

Unsuitable Properties

Buildings (by State)

District of Columbia

Bldg. 20/Greenhouse

Naval Observatory

Washington Co: DC

Landholding Agency: Navy

Property Number: 77200520001

Status: Underutilized

Reason: Secured Area

Illinois

Trailers 009 & T023

FERMILAB

Batavia Co: DuPage IL 60510-

Landholding Agency: Energy

Property Number: 41200520001

Status: Excess

Reason: Extensive deterioration

Maryland

Bldg. C-15

Chesapeake Bay Detachment

Naval Research Lab

Chesapeake Co: MD 20732-

Landholding Agency: Navy

Property Number: 77200510027

Status: Excess

Reasons: Within 2000 ft. of flammable or explosive material, Secured Area, Extensive deterioration

Bldg. C-24

Chesapeake Bay Detachment

Naval Research Lab

Chesapeake Co: MD 20732-

Landholding Agency: Navy

Property Number: 77200510028

Status: Excess

Reasons: Within 2000 ft. of flammable or explosive material, Secured Area, Extensive deterioration

Bldg. C-68

Chesapeake Bay Detachment

Naval Research Lab

Chesapeake Co: MD 20732-

Landholding Agency: Navy

Property Number: 77200510029

Status: Excess

Reasons: Within 2000 ft. of flammable or explosive material, Secured Area, Extensive deterioration

Bldg. C-70

Chesapeake Bay Detachment

Naval Research Lab

Chesapeake Co: MD 20732-

Landholding Agency: Navy

Property Number: 77200510030

Status: Excess

Reasons: Within 2000 ft. of flammable or explosive material, Secured Area, Extensive deterioration

Missouri

6 Facilities

Whiteman AFB

Bates Co: MO

Landholding Agency: GSA

Property Number: 54200520002

Status: Surplus

Reason: Missile launch facilities

GSA Number: 7DMO0657-669

Nevada

3 Bldgs.

Nevada Test Site

23-790, 06-CP50, 26-2107

Mercury Co: Nye NV 89023-

Landholding Agency: Navy

Property Number: 77200510025

Status: Excess

Reasons: Contamination, Secured Area

Virginia

Bldg. 3233

Marine Corps Base

Quantico Co: VA

Landholding Agency: Navy

Property Number: 77200510031

Status: Excess

Reasons: Secured Area, Extensive deterioration

[FR Doc. E5-1712 Filed 4-14-05; 8:45 am]

BILLING CODE 4210-29-P